DEPARTMENT OF THE INTERIOR

Bureau of Land Management

[LLWYD01000-2009-LL13100000-NB0000-LXSI016K0000]

Notice of Reestablishment of the Pinedale Anticline Working Group, Wyoming

AGENCY: Bureau of Land Management, Interior.

ACTION: Notice.

SUMMARY: This notice is published in accordance with Section 9(a)(2) of the Federal Advisory Committee Act of 1972 (Pub. L. 92-463). Notice is hereby given that the Secretary of the Interior (Secretary) has reestablished the Bureau of Land Management's (BLM) Pinedale Anticline Working Group (PAWG).

FOR FURTHER INFORMATION CONTACT: Allison Sandoval, BLM Advisory Committee Lead (600), Bureau of Land Management, 1620 L Street, NW., MS-LS-401, Washington, DC 20036, telephone (202) 912-7434.

SUPPLEMENTARY INFORMATION: The purpose of the PAWG is to develop recommendations and provide advice to the BLM Field Manager on monitoring and mitigation issues pertinent to oil and gas development in the Pinedale Anticline Project Area.

Certification Statement: I hereby certify that the reestablishment of the PAWG is necessary and in the public interest in connection with the Secretary's responsibilities to manage the lands, resources, and facilities administered by the BLM.

Dated: August 3, 2010.
Ken Salazar,
Secretary of the Interior.

[FR Doc. 2010-19468 Filed 8-5-10; 8:45 am]

BILLING CODE 4310-22-P